DEPARTMENT OF THE INTERIOR

National Park Service

[NPS-WASO-NAGPRA-NPS0035558; PPWOCRADN0-PCU00RP14.R50000]

Notice of Inventory Completion: Mississippi Department of Archives and History, Jackson, MS

AGENCY: National Park Service, Interior.

ACTION: Notice.

SUMMARY: In accordance with the Native American Graves Protection and Repatriation Act (NAGPRA), the Mississippi Department of Archives and History (MDAH) has completed an inventory of human remains and associated funerary objects and has determined that there is a cultural affiliation between the human remains and associated funerary objects and Indian Tribes or Native Hawaiian organizations in this notice. The human remains and associated funerary objects were removed from Clay, Prentiss, Yalobusha, and Quitman Counties, MS.

DATES: Repatriation of the human remains and associated funerary objects in this notice may occur on or after April 28, 2023.

ADDRESSES: Jessica Walzer, NAGPRA Coordinator, Mississippi Department of Archives and History, Museum Division, 222 North Street, P.O. Box 571, Jackson, MS 39205, telephone (601) 359-6851, email jwalzer@mdah.ms.gov.

SUPPLEMENTARY INFORMATION: This notice is published as part of the National Park Service's administrative responsibilities under NAGPRA. The determinations in this notice are the sole responsibility of MDAH. The National Park Service is not responsible for the determinations in this notice. Additional information on the determinations in this notice, including the results of consultation, can be found in the inventory or related records held by MDAH.

Description

Human remains representing, at minimum, six individuals were removed from Clay County, MS. In 2014, human remains were excavated from Dexter Site I (22CL000) during a survey by Mississippi Fish and Wildlife survey and in 2016, they were transferred to MDAH. In 1979, human remains were removed from Chuquatonchee #2 (22CL598) during a survey by MDAH. No known individuals were identified. The 11 associated funerary objects are two lots of lithics, two lots of faunal remains, two lots of shell, one lot of ceramics, one lot of petrified wood, one lot of worked bones, one lot of metal, and one lot of bricks.

Human remains representing, at minimum, two individuals were removed from Prentiss County, MS. In 1970, the human remains were from Shell (22PS502) during a survey by MDAH. No known individuals were identified. The two associated funerary objects are one lot of lithics and one lot of ceramics.

Human remains representing, at minimum, one individual were removed from Yalobusha County, MS. At an unknown date, C. Spearman removed these human remains from an unknown site whose location was given as “Yalobusha and Skuna Rivers.” No known individual was identified. No associated funerary objects are present.

One associated funerary object was removed from the Blue Lake (22QU531) site in Quitman County, MS. Following the transfer of control of human remains and associated funerary objects listed in a Notice of Inventory Completion published in the Federal Register on July 14, 2022, an additional funerary object was found. The associated funerary object is one lot of worked bones.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, and geographical.

Determinations

Pursuant to NAGPRA and its implementing regulations, and after consultation with the appropriate Indian Tribes and Native Hawaiian organizations, MDAH has determined that:

• The human remains described in this notice represent the physical remains of nine individuals of Native American ancestry.

• The 14 objects described in this notice are reasonably believed to have been placed with or near individual human remains at the time of death or later as part of the death rite or ceremony.

• There is a relationship of shared group identity that can be reasonably traced between the human remains and associated funerary objects described in this notice and the Alabama-Coushatta Tribe of Texas; Alabama-Quassarte Tribal Town; Coushatta Tribe of Louisiana; Eastern Band of Cherokee Indians; Jena Band of Choctaw Indians; Miami Tribe of Oklahoma; Mississippi Band of Choctaw Indians; Quapaw Nation; The Chickasaw Nation; The Choctaw Nation of Oklahoma; The Muscogee (Creek) Nation; The Osage Nation; and the Tunica-Biloxi Indian Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 28, 2023. If competing requests for repatriation are received, MDAH must determine the most appropriate requestor prior to repatriation. Requests for joint repatriation of the human remains and associated funerary objects are considered a single request and not competing requests. MDAH is responsible for sending a copy of this notice to the Indian Tribes identified in this notice.

Authority: Native American Graves Protection and Repatriation Act, 25 U.S.C. 3003, and the implementing regulations, 43 CFR 10.9, 10.10, and 10.14.

Dated: March 22, 2023.
Melanie O'Brien,
Manager, National NAGPRA Program.

[FR Doc. 2023-06474 Filed 3-28-23; 8:45 am]

BILLING CODE 4312-52-P